DEPARTMENT OF COMMERCE

International Trade Administration

[C-533-872]

Finished Carbon Steel Flanges From India: Preliminary Results of Countervailing Duty Administrative Review and Preliminary Intent To Rescind, in Part; 2022

AGENCY: Enforcement and Compliance, International Trade Administration, Department of Commerce.

SUMMARY: The U.S. Department of Commerce (Commerce) preliminarily determines that countervailable subsidies were provided to certain producers and/or exporters of finished carbon steel flanges (steel flanges) from India. The period of review (POR) is January 1, 2022, through December 31, 2022. In addition, we are notifying parties of our intent to rescind the review with respect to 30 companies. Interested parties are invited to comment on these preliminary results.

DATES: Applicable September 13, 2024.

FOR FURTHER INFORMATION CONTACT: Preston N. Cox or Amber Hodak, AD/CVD Operations, Office VI, Enforcement and Compliance, International Trade Administration, U.S. Department of Commerce, 1401 Constitution Avenue NW, Washington, DC 20230; telephone: (202) 482-5041 or (202) 842-8034, respectively.

SUPPLEMENTARY INFORMATION:

Background

On October 18, 2023, Commerce published in the Federal Register a notice of initiation of an administrative review of the countervailing duty (CVD) order on steel flanges from India.¹ On November 28, 2023, Commerce selected Norma (India) Ltd. (Norma) and R.N. Gupta & Company Limited (RNG) as mandatory respondents in this review.² On April 5, 2024, Commerce extended the time period for issuing these preliminary results, in accordance with section 751(a)(3)(A) of the Tariff Act of 1930, as amended (the Act), to August 30, 2024.³ On July 22, 2024, Commerce tolled certain deadlines in this administrative proceeding by seven days.⁴ The deadline for the preliminary results is now September 6, 2024.

¹ See Initiation of Antidumping and Countervailing Duty Administrative Reviews, 88 FR 71829, 71836-71837 (October 18, 2023); see also Finished Carbon Steel Flanges from India: Countervailing Duty Order, 82 FR 40138 (August 24, 2017) (Order).

² See Memorandum, “Respondent Selection,” dated November 28, 2023.

³ See Memorandum, “Extension of Deadline for Preliminary Results of Countervailing Duty Administrative Review,” dated April 5, 2024.

⁴ See Memorandum, “Tolling of Deadlines for Antidumping and Countervailing Duty Proceedings,” dated July 22, 2024.

For a complete description of the events that followed the initiation of this review, see the Preliminary Decision Memorandum.⁵ A list of topics discussed in the Preliminary Decision Memorandum is provided as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁵ See Memorandum, “Decision Memorandum for the Preliminary Results of the Countervailing Duty Administrative Review of Finished Carbon Steel Flanges from India; 2022,” dated concurrently with, and hereby adopted by, this notice (Preliminary Decision Memorandum).

Scope of the Order

The product covered by the Order is steel flanges from India. For a complete description of the scope of the Order, see the Preliminary Decision Memorandum.

Preliminary Intent To Rescind Administrative Review, in Part

It is Commerce's practice to rescind an administrative review of a CVD order, pursuant to 19 CFR 351.213(d)(3), when there are no reviewable entries of subject merchandise during the POR for which liquidation is suspended.⁶ Normally, upon completion of an administrative review, the suspended entries are liquidated at the countervailing duty assessment rate calculated for the review period.⁷ Therefore, for an administrative review of a company to be conducted, there must be a reviewable, suspended entry that Commerce can instruct U.S. Customs and Border Protection (CBP) to liquidate at the calculated countervailing duty assessment rate calculated for the review period.⁸

⁶ See, e.g., Lightweight Thermal Paper from the People's Republic of China: Notice of Rescission of Countervailing Duty Administrative Review; 2015, 82 FR 14349 (March 20, 2017); see also Circular Welded Carbon Quality Steel Pipe from the People's Republic of China: Rescission of Countervailing Duty Administrative Review; 2017, 84 FR 14650 (April 11, 2019).

⁷ See 19 CFR 351.212(b)(2).

⁸ See 19 CFR 351.213(d)(3).

According to the CBP data on the record, the companies listed in Appendix III did not have reviewable entries of subject merchandise during the POR for which liquidation is suspended. Accordingly, in the absence of reviewable, suspended entries of subject merchandise during the POR, we intend to rescind this review with respect to these companies, in accordance with 19 CFR 351.213(d)(3). Parties are invited to comment on the intent to rescind for these companies.

Methodology

Commerce is conducting this administrative review in accordance with section 751(a)(l)(A) of the Act. For each of the subsidy programs found to be countervailable, Commerce preliminarily determines that there is a subsidy, i.e., a financial contribution by an “authority” that give rise to a benefit to the recipient, and that the subsidy is specific.⁹ For a full description of the methodology underlying our conclusions, including our reliance, in part, on facts otherwise available with adverse inferences pursuant to sections 776(a) and (b) of the Act, see the Preliminary Decision Memorandum.

⁹ See sections 771(5)(B) and (D) of the Act regarding financial contribution; section 771(5)(E) of the Act regarding benefit; and section 771(5A) of the Act regarding specificity.

Companies Not Selected for Individual Review

The Act and Commerce's regulations do not address the establishment of a rate to apply companies not selected for individual examination when Commerce limits its examination in an administrative review pursuant to section 777A(e)(2) of the Act. However, Commerce normally determines the rates for non-selected companies in reviews in a manner that is consistent with section 705(c)(5) of the Act, which provides instructions for calculating the all-others rate in an investigation. Section 777A(e)(2) of the Act provides that “the individual countervailable subsidy rates determined under subparagraph (A) shall be used to determine the all-others rate under section 705(c)(5) {of the Act}.” Section 705(c)(5)(A) states that for companies not investigated, in general, we will determine an all-others rate by weight averaging the countervailable subsidy rates established for each of the companies individually investigated, excluding zero and de minimis rates or any rates based solely on the facts available.

Accordingly, to determine the rate for companies not selected for individual examination, Commerce's practice is to weight average the net subsidy rates for the selected mandatory respondents, excluding rates that are zero, de minimis, or based entirely on facts available.¹⁰ We preliminarily find that Norma and RNG received countervailable subsidies at above de minimis rates and not based entirely on facts available. Therefore, we preliminarily determine to assign to the companies not selected for individual review a weighted average of the subsidy rates calculated for Norma and RNG using each company's publicly ranged data for the value of its exports of subject merchandise to the United States.¹¹ The companies for which a review was requested, which were not selected as mandatory respondents or found to be cross-owned with a mandatory respondent, are listed in Appendix II.

¹⁰ See, e.g., Certain Pasta from Italy: Final Results of the 13th (2008) Countervailing Duty Administrative Review, 75 FR 37386, 37387 (June 29, 2010).

¹¹ See Memorandum, “Preliminary Results Calculation of Subsidy Rate for Non-Selected Companies Under Review,” dated concurrently with this notice.

Preliminary Results of Review

As a result of this review, Commerce preliminarily determines the following net countervailable subsidy rates exist for the period January 1, 2022, through December 31, 2022:

¹² As discussed in the Preliminary Decision Memorandum, Commerce has found the following companies to be cross-owned with Norma (India) Ltd.: USK Export Private Limited; Uma Shanker Khandelwal and Co.; and Bansidhar Chiranjilal. This rate applies to all cross-owned companies.

¹³ See Appendix II for a list of companies not selected for individual examination.

Company | Subsidy rate (percent ad valorem)
Norma (India) Ltd.¹² | 2.58
R.N. Gupta & Company Limited | 2.28
Non-Selected Companies Under Review ¹³ | 2.38

Disclosure

Commerce intends to disclose its calculations and analysis performed in connection with the preliminary results to interested parties within five days of any public announcement, or if there is no public announcement, within five days of the date of publication of this notice in accordance with 19 CFR 351.224(b).

Public Comment

Pursuant to 19 CFR 351.309(c), interested parties may submit case briefs to Commerce no later than 30 days after the date of publication of this notice. Rebuttal briefs, limited to issues raised in the case briefs, may be filed not later than five days after the date for filing case briefs.¹⁴ Interested parties who submit case briefs or rebuttal briefs in this proceeding must submit: (1) table of contents listing each issue; and (2) a table of authorities.¹⁵ All briefs must be filed electronically using ACCESS. An electronically filed document must be received successfully in its entirety in ACCESS by 5:00 p.m. Eastern Time on the established deadline.

¹⁴ See 19 CFR 351.309(d); see also Administrative Protective Order, Service and Other Procedures in Antidumping and Countervailing Duty Proceedings, 88 FR 67069, 67077 (September 29, 2023) (APO and Service Procedures).

¹⁵ See 19 CFR 351.309(c)(2) and 351.309(d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.¹⁶ Further, we request that interested parties limited their executive summary of each issue to no more than 450 words, not including citations. We intend to use the executive summaries as the basis of the comment summaries included in the issues and decision memorandum that will accompany the final results in this administrative review. We request that interested parties include footnotes for relevant citations in the public executive summary of each issue. Note that Commerce has amended certain of its requirements pertaining to the service of documents in 19 CFR 351.303(f).¹⁷

¹⁶ We use the term “issue” here to describe an argument that Commerce would normally address in a comment of the Issues and Decision Memorandum.

¹⁷ See APO and Service Procedures.

Pursuant to 19 CFR 351.310(c), interested parties who wish to request a hearing, limited to issues raised in the case and rebuttal briefs, must submit a written request to the Assistant Secretary for Enforcement and Compliance, filed electronically via ACCESS by 5:00 p.m. Eastern Time within 30 days after the date of publication of this notice. Requests should contain: (1) the party's name, address and telephone number; (2) the number of participants; and (3) a list of issues to be discussed. Oral presentations at the hearing will be limited to issues raised in the briefs. If a request for a hearing is made, Commerce will inform parties of the schedule date for the hearing.¹⁸

¹⁸ See 19 CFR 351.310(d).

Assessment Rates

Consistent with section 751(a)(1) of the Act and 19 CFR 351.212(b)(2), upon issuance of the final results, Commerce shall determine, and U.S. Customs and Border Protection (CBP) shall assess, countervailing duties on all appropriate entries covered by this review. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., without 90 days of publication).

Cash Deposit Requirements

Pursuant to section 751(a)(2)(C) of the Act, upon publication of the final results, Commerce intends to instruct CBP to collect cash deposits of estimated countervailing duties for each of the companies listed above on shipments of subject merchandise entered, or withdrawn from warehouse, for consumption on or after the date of publication of the final results of this administrative review, except where the rate calculated in the final results is zero or de minimis. For all non-reviewed firms, we will instruct CBP to continue to collect cash deposits of estimated countervailing duties at the all-others rate or the most recent company-specific rate applicable to the company, as appropriate. These cash deposit instructions, when imposed, shall remain in effect until further notice.

Final Results

Unless the deadline is extended pursuant to section 751(a)(3)(a) of the Act and 19 CFR 351.213(h)(2), Commerce intends to issue the final results of this administrative review, including the results of its analysis of issues by the parties in any written briefs, no later than 120 days after the date of publication of these preliminary results.

Notification to Interested Parties

We are issuing and publishing these preliminary results in accordance with sections 751(a)(1) and 777(i)(1) of the Act, and 19 CFR 351.221(b)(4).

Dated: September 6, 2024.
Abdelali Elouaradia,
Deputy Assistant Secretary for Enforcement and Compliance.

Appendix I

List of Topics Discussed in the Preliminary Decision Memorandum

I. Summary

II. Background

III. Scope of the Order

IV. Diversification of India's Economy

V. Use of Facts Otherwise Available and Application of Adverse Inferences

VI. Benchmarks and Interest Rates

VII. Subsidies Valuation

VIII. Analysis of Programs

IX. Recommendation

Appendix II

Companies Not Selected for Individual Examination

1. Balkrishna Steel Forge Pvt. Ltd.

2. C. D. Industries

3. Cetus Engineering Private Limited

4. Echjay Industries Pvt. Ltd.

5. Jai Auto Pvt. Ltd.

6. Jiten Steel Industries

7. Munish Forge Private Limited

8. R.D. Forge

9. Rollwell Forge Pvt. Ltd.

10. Tirupati Forge

Appendix III

Companies for Which Commerce Intends To Rescind the Review

1. Adinath International

2. Aditya Forge Limited

3. Allena Group

4. Alloyed Steel

5. Bebitz Flanges Works Private Limited

6. CHW Forge

7. CHW Forge Pvt. Ltd.

8. Citizen Metal Depot

9. Corum Flange

10. DN Forge Industries

11. Echjay Forgings Limited

12. Falcon Valves and Flanges Private Limited

13. Heubach International

14. Hindon Forge Pvt. Ltd.

15. Kinnari Steel Corporation

16. M F Rings and Bearing Races Ltd.

17. Mascot Metal Manufacturers

18. OM Exports

19. Punjab Steel Works (PSW)

20. Raaj Sagar Steel

21. Ravi Ratan Metal Industries

22. Renin Piping Products

23. Rolex Fittings India Pvt. Ltd.

24. Rollwell Forge Engineering Components and Flanges

25. SHM (ShinHeung Machinery)

26. Siddhagiri Metal & Tubes

27. Sizer India

28. Steel Shape India

29. Sudhir Forgings Pvt. Ltd.

30. Umashanker Khandelwal Forging Limited

[FR Doc. 2024-20753 Filed 9-12-24; 8:45 am]

BILLING CODE 3510-DS-P